DEPARTMENT OF ENERGY

Federal Energy Regulatory Commission

Notice of Application for Amendment of License and Soliciting Comments, Motions To Intervene, and Protests

February 6, 2002.

a. Application Type: Application to Amend License for the Eagle & Phenix Mills Project.

b. Project No: 2655-041.

c. Date Filed: January 14, 2002.

d. Applicant: Eagle & Phenix Mills Hydro Company, Inc.

e. Name of Project: Eagle & Phenix Project.

f. Location: The project is located on the Chattahoochee River in Columbus, Georgia, and Phenix City, Alabama.

g. Filed Pursuant to: Federal Power Act, 16 U.S.C. 791(a)-825(r).

h. Applicant Contact: Beth Harris, Eagle & Phenix Hydro Company, Inc., P.O. Box 8597, 1311 A Miller Road, Greenville, SC 29604. Tel: (864) 281-9634.

i. FERC Contact: Any questions on this notice should be addressed to Mr. Vedula Sarma at (202) 219-3273 or by e-mail at vedula.sarma@ferc.gov.

j. Deadline for filing comments and/or motions: (March 14, 2002).

Please include the project number (2655-041) on any comments or motions filed.

k. Description of Filing: The licensee requests to amend the license to reduce the project's authorized capacity from 28.66 MW to the existing capacity of 4.26 MW, and adjust the project's annual charges accordingly.

l. Locations of the Application: A copy of the application is available for inspection and reproduction at the Commission's Public Reference Room, located at 888 First Street, NE, Room 2A, Washington, DC 20426, or by calling (202) 208-1371. This filing may also be viewed on the Web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. 02-3329 Filed 2-11-02; 8:45 am]

BILLING CODE 6717-01-P